DEPARTMENT OF TRANSPORTATION

Federal Aviation Administration

Public Notice for Waiver of Aeronautical Land-Use Assurance, Southern Illinois Airport, Carbondale-Murphysboro, IL

AGENCY: Federal Aviation Administration, DOT.

ACTION: Notice of intent of waiver with respect to land.

SUMMARY: The Federal Aviation Administration (FAA) is giving notice that a portion of the airport property will be exchanged with the Southern Illinois University. A portion of the property to be exchanged (.0254 acre) was originally acquired in fee on July 20, 1948, with partial Federal funding. The remaining property (.7266 acre was acquired by Southern Illinois Airport Authority (SIAA) on August 16, 2001, in a previous exchange with the Southern Illinois University (SIU). This release will be an even exchange of land (.752+/-acre) between SIAA and SIU. The Exhibit ‘A’ Property Line Map (Exhibit 1) and the Airport Layout Plan (Exhibit 2) depicts the exchange.

The University proposes to construct four (4) buildings which will result in the new Transportation Education Center at the airport. The sponsor anticipates greater future opportunities for the airport due to the reputation of the University and its renowned programs. It has been determined that one of the buildings will cause a line-of-site obstruction with the Air Traffic Control Tower if it is built in its proposed location. In order to eliminate the conflict, an even exchange of the property and a different construction location has been proposed.

In accordance with section 47107(h) of title 49, United States Code, this notice is required to be published in the Federal Register 30 days before modifying the land-use assurance that requires that property to be used for an aeronautical purpose.

DATES: Comments must be received on or before September 15, 2005.

FOR FURTHER INFORMATION CONTACT: E. Lindsay Butler, Program Manager, 2300 East Devon Avenue, Des Plaines, IL 60018. Telephone Number 847-294-7723/FAX Number 847-294-7046. Documents reflecting this FAA action may be reviewed at this same location or at the Southern Illinois Airport, Carbondale-Murphysboro, Illinois.

SUPPLEMENTARY INFORMATION: This notice announces that the FAA intends to authorize the exchange of the subject airport property at Southern Illinois Airport, Carbondale-Murphysboro, Illinois. Approval does not constitute a commitment by the FAA to financially assist in exchange of the subject airport property nor a determination that all measures covered by the program are eligible for grant-in-aid funding from the FAA. If appropriate, the disposition of proceeds from the exchange of the airport property will be in accordance with FAA's Policy and Procedures Concerning the Use of Airport Revenue, published in the Federal Register on February 16, 1999.

Issued in Des Plaines, Illinois on June 10, 2005.
Larry H. Ladendorf,
Acting Manager, Chicago Airports District Office, FAA, Great Lakes Region.

[FR Doc. 05-16155 Filed 8-15-05; 8:45 am]

BILLING CODE 4910-13-M